DEPARTMENT OF COMMERCE

National Oceanic and Atmospheric Administration

[I.D. 100703F]

South Atlantic Fishery Management Council; Public Meeting

AGENCY: National Marine Fisheries Service (NMFS), National Oceanic and Atmospheric Administration (NOAA), Commerce.

ACTION: Notice of a public workshop.

SUMMARY: The South Atlantic Fishery Management Council will hold a Deepwater Snapper Grouper Data Workshop as part of the Southeastern Data, Assessment, and Review (SEDAR) process. The SEDAR assessment of the South Atlantic and Caribbean deepwater snapper and grouper complex will begin with a Data Workshop in Charleston, SC.

DATES: The SEDAR Deepwater Data Workshop will be held November 3, 2003 beginning at 1:30 p.m. through November 7, 2003, ending by 4 p.m.

ADDRESSES: The workshop will be held at the Hampton Inn Charleston/West Ashley, 678 Citadel Haven Drive, Charleston, SC 29414; telephone: (843) 573-1200; fax: (843) 556-6078.

Council address: One Southpark Circle, Suite 306, Charleston, SC 29407.

FOR FURTHER INFORMATION CONTACT: Kim Iverson, Public Information Officer, South Atlantic Fishery Management Council, telephone: (843) 571-4366 or toll free 866/SAFMC-10; fax: (843) 769-4520.

SUPPLEMENTARY INFORMATION: An assessment data set will be developed during the workshop for 8 species in the South Atlantic snapper grouper management complex: snowy grouper, golden tilefish, speckled hind, Warsaw grouper, blueline tilefish, queen snapper, misty grouper and yellowedge grouper. The data set will also include the following four species from the Caribbean: queen snapper, silk snapper, sand tilefish and blackline tilefish. The assessment data set for these species will include catch statistics, fishery sampling, independent monitoring, life history and logbook information.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to the council office (see ADDRESSES) by October 30, 2003.

Dated: October 9, 2003.
Richard W. Surdi,
Acting Director, Office of Sustainable Fisheries, National Marine Fisheries Service.

[FR Doc. 03-26200 Filed 10-15-03; 8:45 am]

BILLING CODE 3510-22-S